DEPARTMENT OF THE INTERIOR

Bureau of Ocean Energy Management

[Docket Number: BOEM-2025-0582]

Call for Information and Nominations for Southern California Outer Continental Shelf Oil and Gas Lease Sales Proposed in the 11th National Outer Continental Shelf Oil and Gas Leasing Program

AGENCY: Bureau of Ocean Energy Management, Interior.

ACTION: Call for information and nominations; request for comments.

SUMMARY: The Bureau of Ocean Energy Management (BOEM) issues this call for information and nominations (Call) covering proposed Outer Continental Shelf (OCS) oil and gas lease sales in the available portions of the Southern California Planning Area. Those sales are described in the U.S. Department of the Interior's (Department) recently published Draft Proposed Program for the 11th National OCS Oil and Gas Leasing Program (11th National Program), which BOEM announced on November 20, 2025. This Call solicits industry nominations of acreage for possible inclusion in these proposed sales and requests information from the public on the Call Area (as defined in the section “Call for Information and Nominations,” subsection 3 “Description of the Call Area” below) for lease sale planning. Specifically, BOEM seeks information on geological conditions, archaeological sites, potential use conflicts, areas of special concern, and other socioeconomic, biological, and environmental information. This Call is not a final decision to lease and does not prejudge any future secretarial decisions concerning leasing offshore California.

DATES: All nominations and comments must be received by BOEM or postmarked no later than February 26, 2026.

ADDRESSES: Do not send nominations, indications of interest, or other proprietary information through the Federal eRulemaking Portal or to any email address provided in this document. To ensure security and confidentiality of proprietary information to the maximum extent possible, send nominations, indications of interest, and other proprietary information via mail directly to: Regional Supervisor, Bureau of Ocean Energy Management, Office of Strategic Resources, 760 Paseo Camarillo (CM 102), Camarillo, California 93010. Consistent with subsection 5 “Protection of Privileged, Proprietary, and Personal Information” below, you should mark all documents and every page containing such information with “Confidential—Contains Proprietary Information.” Send your nominations in an envelope labeled “Nominations for Southern California Planning Area Lease Sales.”

All public comments should be submitted through one of the following methods:

1. Federal eRulemaking Portal: http://www.regulations.gov. In the field entitled, “Search,” enter “BOEM-2025-0582” and then click “search.” Follow the instructions to submit public comments and to view supporting and related materials available for this notice.

2. By mail to the following address: Bureau of Ocean Energy Management, Pacific Region, Office of Strategic Resources, 760 Paseo Camarillo (CM 102), Camarillo, California 93010. Send your comments in an envelope clearly labeled “Comments on the Call for Information and Nominations for Southern California Planning Area Lease Sales.”

FOR FURTHER INFORMATION CONTACT: Necy Sumait, Regional Supervisor, Bureau of Ocean Energy Management, Pacific Region, Office of Strategic Resources, 760 Paseo Camarillo (CM 102), Camarillo, California 93010, at Pacific.Region@boem.gov or (805) 384-6320.

SUPPLEMENTARY INFORMATION: Because the first of the proposed Southern California lease sales is tentatively scheduled to occur near the beginning of the 11th National Program and given the long lead time needed to prepare for a proposed sale, BOEM must initiate the lease sale planning process simultaneously with the development of the National Program. BOEM will use the information and nominations received in response to this Call to identify the areas to be carried forward for analysis and potential inclusion in future oil and gas leasing. Multiple steps would be required prior to holding any lease sale, including but not limited to the approval of the 11th National Program, completion of environmental analyses and other statutory requirements, and issuance of proposed and final notices of sale (NOS).

11th National OCS Program Development

Information on the development of the 11th National Program is available on BOEM's website at: https://www.boem.gov/National-OCS-Program/.

Environmental Review Process

BOEM intends to prepare a Programmatic Environmental Impact Statement (Programmatic EIS), in accordance with the National Environmental Policy Act (NEPA) and the Department's regulations and manual implementing NEPA, analyzing a representative California proposed lease sale and reasonable alternatives. The Programmatic EIS will be supplemented as necessary for individual decisions on all future Central and Southern California lease sales included in the 11th National Program.

The Programmatic EIS will evaluate the potential effects that oil and gas activities resulting from a lease sale could have on the human, marine, and coastal environments. The Programmatic EIS may propose measures and lease stipulations to mitigate adverse impacts for the alternatives being analyzed. Consultations will be conducted, as appropriate. Consultation with Tribal Nations, States, and Federal agencies will address BOEM's obligations under the Coastal Zone Management Act, Endangered Species Act, the Magnuson-Stevens Fishery Conservation and Management Act, Section 106 of the National Historic Preservation Act, Executive Order 13175, “Consultation and Coordination with Indian Tribal Governments,” and other applicable laws and regulations. The information gathered from these consultations will inform the Secretary in making individual leasing decisions.

BOEM's Leasing Process

Information on oil and gas leasing can be found on BOEM's website at https://www.boem.gov/oil-gas-energy/leasing. BOEM's regulations for planning and holding an oil and gas lease sale are found at 30 CFR part 556, subpart C. These regulations include the following steps:

(1) Call for Information and Nominations (Call; see 30 CFR 556.301): See section below.

(2) Area Identification (Area ID; see 30 CFR 556.302): Based on the information and nominations submitted in response to this Call, BOEM will recommend an area for further leasing consideration and environmental analysis. Upon approval by the Secretary, BOEM will announce the proposed area identified for leasing in the Federal Register, in accordance with 30 CFR 556.302(a)(3).

(3) Proposed Notice of Sale (Proposed NOS; see 30 CFR 556.304): If BOEM proceeds with the leasing process after Area Identification and environmental analysis, it will publish a Notice of Availability of a Proposed NOS in the Federal Register. BOEM also will send the Proposed NOS to the Governors of affected States for comment and recommendations on the size, timing, and location of the proposed sale. The Proposed NOS describes the size, timing, and location of the proposed sale; provides additional information on the areas proposed for leasing; lists proposed lease terms and conditions of the sale; and provides proposed stipulations to mitigate potential adverse impacts on the environment and other uses of the area.

(4) Final Notice of Sale (Final NOS; see 30 CFR 556.308) and Record of Decision (ROD): If BOEM decides to proceed with leasing, it will publish a Final NOS in the Federal Register at least 30 days before the date of the lease sale. The Final NOS describes the place, time, and methods for filing, opening, and publicly announcing bids. It also contains a description of the areas offered for lease, the lease terms and conditions of the sale, and stipulations to mitigate potential adverse impacts on the environment and other uses of the area. BOEM will also publish contemporaneously a ROD to complete its NEPA obligations with regard to the sale.

Call for Information and Nominations

1. Authority

This Call is published pursuant to the Outer Continental Shelf Lands Act (OCSLA), as amended (43 U.S.C. 1331-1356) and the implementing regulation at 30 CFR 556.301.

2. Purpose of the Call

The purpose of this Call is to solicit industry nominations for areas of leasing interest and to gather comments and information from the public on the Call Area. Pursuant to 30 CFR 556.301, BOEM seeks comments from industry and the public on:

(a) industry interest in the Call Area, including nominations or indications of interest in specific blocks within the Call Area;

(b) geological conditions, including shallow hazards;

(c) archaeological sites on the seabed or near shore;

(d) potential use conflicts in the Call Area, including navigation, recreation, and fisheries;

(e) areas that should receive special concern and analysis; and

(f) other socioeconomic, biological, and environmental information.

BOEM will consider information submitted in response to this Call to:

• inform the Area ID process under 30 CFR 556.302;

• prioritize areas with potential for oil and gas development;

• develop potential lease terms and conditions;

• identify potential use conflicts and potential mitigation measures; and

• assist in BOEM's planning and environmental review process.

3. Description of the Call Area

The Southern California Planning Area is located offshore the State of California, extending from the 3-nautical mile (nm) boundary of the Submerged Lands Act on the east to the OCS boundary on the west. Its easternmost point is approximately 117.2° W, while its westernmost point is approximately 126.4° W. The southern boundary follows the southern extent of the OCS boundary, reaching a southernmost point of around 30.5° N. The northern boundary extends westward from the onshore boundary between Monterey and San Luis Obispo Counties, reaching a northernmost point at approximately 35.8° N. The Call Area encompasses approximately 68 million acres, as depicted on the Call Area Map.

A map of the Call Area is available for download on the BOEM website at: www.boem.gov/California-oil-and-gas-leasing. Copies of Official Protraction Diagrams (OPDs) also are available for download on the BOEM website at: https://www.boem.gov/Maps-and-GIS-Data/.

4. Instructions on Responding to the Call

BOEM requests parties who are interested in leasing any whole or partial blocks within the Call Area to indicate their interest in, and comment on, blocks that they would like included in a proposed lease sale. Parties should explicitly nominate whole or partial blocks and rank them using the following indicators: 1 [high], 2 [medium], or 3 [low]. Parties are encouraged to be as specific as possible in prioritizing blocks and supporting nominations with detailed information, such as relevant geologic, geophysical, and economic data. BOEM will consider the areas where interest has been indicated but not prioritized as low priority areas.

Parties may also nominate blocks by OPD and leasing map designations to ensure correct interpretation of their nominations. OPDs and leasing maps are available on BOEM's website at https://www.boem.gov/Maps-and-GIS-Data/.

See subsection 5, “Protection of Privileged, Proprietary, and Personal Information,” regarding protection and release of information and how to submit proprietary information.

BOEM also seeks comments from the public regarding particular geological, environmental, biological, archaeological, and socioeconomic conditions, potential use conflicts, or other information about conditions that could affect the potential leasing and development of particular areas. Comments may refer to broad areas or particular OCS blocks.

5. Protection of Privileged, Proprietary, and Personal Information

BOEM will protect privileged or proprietary information in accordance with the Freedom of Information Act (FOIA) and OCSLA requirements. To avoid inadvertent release of such information, you should mark all documents and every page containing such information with “Confidential—Contains Proprietary Information.” To the extent a document contains a mix of proprietary and nonproprietary information, you should clearly mark the document to indicate which portion of the document is proprietary and which is not. Exemption 4 of FOIA applies to trade secrets and commercial or financial information that you submit that is privileged or confidential. BOEM considers nominations of specific blocks to be proprietary. Therefore, BOEM will not release information that identifies any particular nomination with any particular party, so as not to compromise the competitive position of any participants.

Please be aware that BOEM's practice is to make all other comments, including the names and addresses of individuals, available for public inspection. Before including your address, phone number, email address, and any personally identifiable information in your comment, please be advised that your entire comment, including your personally identifiable information, may be made publicly available at any time. For BOEM to consider withholding from disclosure your personally identifiable information, you must identify, in a cover letter, any information contained in your comments that, if released, would constitute a clearly unwarranted invasion of your personal privacy. You must also briefly describe any possible harmful consequences of the disclosure of information, such as embarrassment, injury, or other harm.

Even if BOEM withholds your information in the context of this Call, your submission is subject to the FOIA. If your submission is requested under the FOIA, your information will only be withheld if BOEM determines that one of the FOIA exemptions to disclosure applies. Such a determination will be made in accordance with the Department's FOIA regulations and applicable law.

BOEM will make available for public inspection all comments, in their entirety, submitted by organizations and businesses (except as provided above for proprietary information) or by individuals identifying themselves as representatives of organizations or businesses.

Matthew N. Giacona,
Acting Director, Bureau of Ocean Energy Management.

[FR Doc. 2026-01568 Filed 1-26-26; 8:45 am]

BILLING CODE 4340-98-P